DEPARTMENT OF JUSTICE

Antitrust Division

Notice Pursuant to the National Cooperative Research and Production Act of 1993—The Open Group, L.L.C.

Notice is hereby given that, on May 29, 2020, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, 3Pillar Global, Inc., Fairfax, VA; Aegis Power Systems, Inc., Murphy, NC; Aegon EDC Limited, Edinburgh, UNITED KINGDOM; BusCorp Inc., Calgary, CANADA; C3.ai, Inc., Redwood City, CA; CAST Navigation, LLC, Tewksbury, MA; CCTI SAS Consultoria en Technologia, Bogota, COLOMBIA; Confluent, Inc., Mountain View, CA; CRFS, Inc., Chantilly, VA; DeepIQ, LLC, Houston, TX; E&P Consulting Ltd, London, UNITED KINGDOM; Eastman Chemical Company, Kingsport, TN; ELIIS SAS, Clapiers, FRANCE; FITS Middle East FZ-LLC, Dubai, UNITED ARAB EMIRATES; Freedom Power Systems, Inc., Cedar Park, TX; Fugro (USA), Inc., Houston, TX; FutureOn AS, Oslo, NORWAY; Geosiris SAS, Fourqueux, FRANCE; HighByte Inc., Portland, ME; Juniper Capital Advisors, L.P., Houston, TX; Mellanox Federal Systems, Houston, TX; Mi4 Corporation, Houston, TX; Mosaic451, LLC, Phoenix, AZ; Motorola Solutions Inc., Schaumburg, IL; NormShield, Inc., Vienna, VA; Perspecta Labs, Inc., Red Bank, NJ; PMK Architecture Services, LLC, San Diego, CA; Repsol S.A., Spring, TX; Seequent, Christchurch, NEW ZEALAND; SMATMASS Pty Ltd, Johannesburg, SOUTH AFRICA; SparkCognition, Austin, TX; Spirit Energy Norway AS, Stavanger, NORWAY; Supermicro, San Jose, CA; Sword Venture, Staines-Upon-Thames, UNITED KINGDOM; Talus Technologies Inc., Calgary, CANADA; TDE Group, Sugar Land, TX; The Fervid Group LLC, Houston, TX; TTTech Industrial Automation AG, Vienna, AUSTRIA; Wintershall Dea GmbH, Hamburg, GERMANY; Wolf Advanced Technology, St. Petersburg, FL; and Woodward Inc., Fort Collins, CO, have been added as parties to this venture.

Also, Arizona State University, Tempe, AZ; Asia eHealth Information Network, Kowloon, People's Republic of China; CA, Inc., San Jose, CA; Carrtelcom Nigeria Company Limited, Iju-Shaga, NIGERIA; E-quality Italia S.r.l., Rome, ITALY; EACIIT LLC, Cypress, TX; Euroavionics USA LLC, Sarasota, FL; Foresight Resilience Strategies, LLC, Bethesda, MA; ING Group NV, Amsterdam, THE NETHERLANDS; Intelligent Training de Colombia, Bogota, COLOMBIA; Inter-Coastal Electronics, Inc. (ICE), Mesa, AZ; International Technology Transfer Group, Cairo, EGYPT; Kerala State IT Mission, Thiruvananthapuram, INDIA; Office of the National Coordinator for Health Information Technology, Washington, DC; OMNICOM, s.r.o., Bratislava, SLOVAKIA; Pramana, Paris, FRANCE; Pyrrhus Software, L.L.C., Phoenix, AZ; San Jose State University, San Jose, CA; Star Lab Corporation, Huntsville, AL; Tubitak Bilgem, Kocaeli, TURKEY; and Veracity Security Intelligence, Aliso Viejo, CA have withdrawn as parties to this venture.

In addition, Esterel Technologies, Inc. has changed its name to ANSYS, Inc., Canonsburg, PA; and Hitachi Vantara Corporation to Hitachi Vantara LLC, Santa Clara, CA.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on February 14, 2020. A notice was published in the Federal Register pursuant to Section 6(b) of the Act on February 27, 2020 (85 FR 11395).

Suzanne Morris,
Chief, Premerger and Division Statistics, Antitrust Division.

[FR Doc. 2020-13170 Filed 6-17-20; 8:45 am]

BILLING CODE 4410-11-P